DEPARTMENT OF TRANSPORTATION

Federal Motor Carrier Safety Administration

[Docket No. FMCSA-2016-0028]

Qualification of Drivers; Exemption Applications; Vision

AGENCY: Federal Motor Carrier Safety Administration (FMCSA), DOT.

ACTION: Notice of applications for exemptions; request for comments.

SUMMARY: FMCSA announces receipt of applications from 37 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before July 18, 2016. All comments will be investigated by FMCSA. The exemptions will be issued the day after the comment period closes.

ADDRESSES: You may submit comments bearing the Federal Docket Management System (FDMS) Docket No. FMCSA-2016-0028 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 37 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Dennis J. Ameling

Mr. Ameling, 54, has had a dense corneal scar in his right eye since childhood. The visual acuity in his right eye is no light perception, and his left eye, 20/20. Following an examination in 2015, his optometrist stated, “My opinion is that his vision is more than capable to drive a commercial vehicle out of state.” Mr. Ameling reported that he has driven straight trucks for 18 years, accumulating 1.44 million miles and tractor-trailer combinations for 21 years, accumulating 2.1 million miles. He holds a Class A CDL from Iowa. His driving record for the last 3 years shows no crashes and one conviction for a moving violation in a CMV; he exceeded the speed limit by 10 miles per hour (mph).

Daniel A. Bahm

Mr. Bahm, 50, has had amblyopia in his right eye since childhood. The visual acuity in his right eye is count fingers, and in his left eye, 20/20. Following an examination in 2016, his ophthalmologist stated, “According to our exam and his previous visual field test Mr. Bahm has sufficient vision to perform the driving tasks required to operate a commercial vehicle.” Mr. Bahm reported that he has driven straight trucks for 33 years, accumulating 16,500 miles and tractor-trailer combinations for 14 years, accumulating 2.1 million miles. He holds a Class A CDL from Florida. His driving record for the last 3 years shows no crashes and no convictions for moving violations in a CMV.

John P. Brooks

Mr. Brooks, 48, has complete loss of vision in his right eye due to a traumatic incident in childhood. The visual acuity in his right eye is light perception, and in his left eye, 20/20. Following an examination in 2016, his ophthalmologist stated, “In my opinion, he does have the vision required to operate a commercial vehicle.” Mr. Brooks reported that he has driven straight trucks for 6 years, accumulating 240,000 miles and tractor-trailer combinations for 18 years, accumulating 144,000 miles. He holds a Class A CDL from Illinois. His driving record for the last 3 years shows no crashes but two convictions in a CMV. In the first incidence, he exceeded the speed limit by 12 mph and in the second incidence; according to the citation, he “disregarded an official traffic control device.”

Joshua L. Cecotti

Mr. Cecotti, 33, has had vision loss in his right eye since birth. The visual acuity in his right eye is 20/150, and in his left eye, 20/20. Following an examination in 2016, his optometrist stated, “It is also the opinion of both Dr. Raymond A. Powell and me [sic] that he has sufficient vision to perform the driving tasks required to operate a commercial vehicle.” Mr. Cecotti reported that he has driven straight trucks for 15 years, accumulating 360,000 miles, and tractor-trailer combinations for 15 years, accumulating 285,000 miles. He holds an operator's license from Washington. His driving record for the last 3 years shows no crashes and no convictions for moving violation in a CMV.

Derrick L. Cowan

Mr. Cowan, 38, has a prosthetic left eye due to a traumatic incident in 1999. The visual acuity in his right eye is 20/20, and in his left eye, no light perception. Following an examination in 2016, his optometrist stated, “Based on my findings I believe Mr. Cowan should have no visual problem operating a commercial vehicle.” Mr. Cowan reported that he has driven straight trucks for 9 years, accumulating 176,400 miles. He holds a Class A CDL from North Carolina. His driving record for the last 3 years show no crashes and no convictions for moving violations in a CMV.

Ryan E. Cox

Mr. Cox, 40, has had amblyopia in his left eye since childhood. The visual acuity in his right eye is 20/20, and in his left eye, counting fingers. Following an examination in 2016, his optometrist stated “Ryan has a good driving record, so in my opinion, he has sufficient vision to perform the driving tasks required to operate a commercial vehicle.” Mr. Cox reported that he has driven straight trucks for 20 years, accumulating 100,000 miles and tractor-trailer combinations for 20 years, accumulating 100,000 miles. He holds an operator's license from Wisconsin. His driving record for the last 3 years shows no crashes and no convictions for moving violations in a CMV.

Ronald A. Donsbach

Mr. Donsbach, 52, has had a cataract in his left eye since birth. The visual acuity in his right eye is 20/20, and in his left eye, 20/400. Following an examination in 2015, his optometrist stated, “It is in my opinion that Ronald has sufficient vision to perform the driving tasks required for him to operate his commercial vehicle.” Mr. Donsbach reported that he has driven straight trucks for 4 years, accumulating 152,000 miles. He holds an operator's license from Montana. His driving record for the last 3 years shows no crashes and no convictions for moving violations in a CMV.

Kenneth W. Erickson

Mr. Erickson, 78, has had amblyopia in his left eye since birth. The visual acuity in his right eye is 20/20, and in his left eye, 20/400. Following an examination in 2016, his optometrist stated, “Kenneth definitely has sufficient vision to operate a commercial vehicle.” Mr. Erickson reported that he has driven straight trucks for 62 years, accumulating 930,000 miles, tractor-trailer combinations for 34 years, accumulating 1.97 million miles, and buses for 8 years, accumulating 800,000 miles. He holds a Class A CDL from Minnesota. His driving record for the last 3 years shows no crashes and no convictions for moving violations in a CMV.

Anthony A. Gusa

Mr. Gusa, 59, has a corneal scar in his left eye due to a traumatic incident in 1969. The visual acuity in his right eye is 20/20, and in his left eye, 20/60. Following an examination in 2016, his optometrist stated, “In my opinion, Anthony has fine binocular vision and is totally capable of operating a commercial vehicle.” Mr. Gusa reported that he has driven straight trucks for 9 years, accumulating 90,000 miles and tractor-trailer combinations for 13 years, accumulating 585,000 miles. He holds a Class A CDL from Michigan. His driving record for the last 3 years shows no crashes and no convictions for moving violations in a CMV.

Pedro Guzman

Mr. Guzman, 39, has had amblyopia in his left eye since childhood. The visual acuity in his right eye is 20/20, and in his left eye, 20/150. Following an examination in 2016, his optometrist stated, “In my opinion, Pedro has sufficient vision to perform the driving tasks required to operate a commercial vehicle.” Mr. Guzman reported that he has driven straight trucks for 8 years, accumulating 30,720 miles. He holds an operator's license from Texas. His driving record for the last 3 years shows no crashes and no convictions for moving violations in a CMV.

Bradley C. Helsel

Mr. Helsel, 59, has had phthisis bulbi in his left eye since childhood. The visual acuity in his right eye is 20/20, and in his left eye, no light perception. Following an examination in 2016, his ophthalmologist stated, “In my medical opinion, the patient has sufficient vision to perform the driving tasks required to operate a commercial vehicle.” Mr. Helsel reported that he has driven straight trucks for 15 years, accumulating 450,000 miles, and tractor-trailer combinations for 12 years, accumulating 840,000 miles. He holds a Class A CDL from Oregon. His driving record for the last 3 years shows no crashes and no convictions for moving violations in a CMV.

Titus E. Hostetler

Mr. Hostetler, 47, has had amblyopia in his right eye since birth. The visual acuity in his right eye is 20/150, and in his left eye, 20/20. Following an examination in 2016, his optometrist stated, “In My Medical Opinion [sic], Mr. Hostetler has sufficient vision to perform the driving tasks required to operate a commercial vehicle.” Mr. Hostetler reported that he has driven straight trucks for 29 years, accumulating 290,000 miles, and tractor-trailer combinations for 29 years, accumulating 290,000 miles. He holds a Class A CDL from Missouri. His driving record for the last 3 years shows no crashes and no convictions for moving violations in a CMV.

Darrell E. Hunter

Mr. Hunter, 50, has a retinal detachment in his left eye due to a traumatic incident in 1998. The visual acuity in his right eye is 20/20, and in his left eye, 20/100. Following an examination in 2016, his ophthalmologist stated, “I do believe that he has vision sufficient to operate a commercial vehicle.” Mr. Hunter reported that he has driven tractor-trailer combinations for 15 years, accumulating 900,000 miles. He holds a Class A CDL from North Carolina. His driving record for the last 3 years shows no crashes and no convictions for moving violations in a CMV.

Charles R. Johnson

Mr. Johnson, 54, has had central serous chorioretinopathy in his left eye since 1991. The visual acuity in his right eye is 20/20, and in his left eye 20/200. Following an examination in 2016, his ophthalmologist stated, “In my opinion, this patient continues to have sufficient vision to perform his job, which requires operating a commercial vehicle.” Mr. Johnson reported that he has driven straight trucks for 27 years, accumulating 54,000 miles, and tractor-trailer combinations for 27 years, accumulating 54,000 miles. He holds a Class A CDL from Minnesota. His driving record the last 3 years shows no crashes and no convictions for moving violations in a CMV.

Kenneth B. Julian

Mr. Julian, 55, has had a prosthetic left eye since 2013. The visual acuity in his right eye is 20/20, and in his left eye, no light perception. Following an examination in 2016, his optometrist stated, “In my medical opinion Kenneth Julian has sufficient vision to operate a commercial vehicle.” Mr. Julian reported that he has driven tractor-trailer combinations for 18 years, accumulating 1.03 million miles. He holds an operator's license from Oklahoma. His driving record for the last 3 years shows no crashes and no convictions for moving violations in a CMV.

Walter J. Jurczak

Mr. Jurczak, 50, has had a prosthetic left eye since 2000. The visual acuity in his right eye is 20/20, and in his left eye, no light perception. Following an examination in 2016, his optometrist stated, “The level of vision he is achieving in his right eye is satisfactory to safely operate a commercial vehicle.” Mr. Jurczak reported that he has driven straight trucks for 28 years, accumulating 140,000 miles, tractor-trailer combinations for 28 years, accumulating 56,000 miles, and buses for 28 years, accumulating 28,000 miles. He holds a Class A CDL from New Jersey. His driving record for the last 3 years shows no crashes and no convictions for moving violations in a CMV.

Keith Kebschull

Mr. Kebschull, 51, has had amblyopia in his left eye since childhood. The visual acuity in his right eye is 20/30, and in his left eye, hand motion. Following an examination in 2015, his ophthalmologist stated, “With these findings and his excellent 27 year commercial driving record in my medical opinion Mr. Kebschull has sufficient vision to perform the driving tasks required to operate a commercial vehicle.” Mr. Kebschull reported that he has driven straight trucks for 27 years, accumulating 444,150 miles. He holds a Class B CDL from Illinois. His driving record for the last 3 years shows no crashes and no convictions for moving violations in a CMV.

Jeffrey N. Lake

Mr. Lake, 54, has complete loss of vision in his right eye due to a traumatic incident in 1974. The visual acuity in his right eye is no light perception, and in his left eye, 20/20. Following an examination in 2015, his ophthalmologist stated, “He is completely capable of driving commercially with his good eye which is 20/20 uncorrected.” Mr. Lake reported that he has driven straight trucks for 36 years, accumulating 1.08 million miles, and tractor-trailer combinations for 36 years, accumulating 3.6 million miles. He holds a Class AM CDL from Illinois. His driving record for the last 3 years shows no crashes and no convictions for moving violations in a CMV.

Jayme M. Leonard

Mr. Leonard, 54, has a retinal detachment in his right eye due to a traumatic incident in 1976. The visual acuity in his right eye is 20/80, and in his left eye, 20/20. Following an examination in 2016, his optometrist stated, “Since Jayme has been living with this vision damage for over 40 years and everything is stable, it is my opinion that he should continue to have a CDL driving [sic] license and is safe to be driving a commercial vehicle.” Mr. Leonard reported that he has driven straight trucks for 3 years, accumulating 37,440 miles. He holds a Class B CDL from Vermont. His driving record for the last 3 years shows no crashes and no convictions for moving violations in a CMV.

Christopher E. Madsen

Mr. Madsen, 35, has had optic nerve hypoplasia in his left eye since birth. The visual acuity in his right eye is 20/20, and in his left eye, no light perception. Following an examination in 2016, his optometrist stated, “Due to the congenital nature of Chris's visual problems, he has learned to perform all activities of daily life and work with just the use of his right eye. He performs as well with his one eye as most of us do with two. If anything, it is his color vision deficiency which presents the greatest obstacle and I cannot change that. I feel this should be the only thing taken into consideration with whether [sic] or not he is issued a commercial driver's license.” Mr. Madsen reported that he has driven tractor-trailer combinations for 11 years accumulating 999,999 miles. He holds a Class A CDL from Iowa. His driving record for the last 3 years shows no crashes and no convictions for moving violations in a CMV.

James K. Matthey

Mr. Matthey, 59, has had ptosis in his right eye since 1991. The visual acuity in his right eye is light perception, and in his left eye, 20/20. Following an examination in 2016, his optometrist stated, “It is my opinion that given, James longstanding nature of the ptosis of his right eyelid and his ability to compensate for this loss over the past 25 years, he possesses sufficient visual ability to perform the driving tasks required to operate a commercial vehicle.” Mr. Matthey reported that he has driven straight trucks for 36 years, accumulating 720,000 miles. He holds an operator's license from Pennsylvania. His driving record for the last 3 years shows no crashes and no convictions for moving violations in a CMV.

Brian D. McClanahan

Mr. McClanahan, 45, has had strabismic amblyopia in his right eye since childhood. The visual acuity in his right eye is 20/60, and in his left eye, 20/20. Following an examination in 2016, his optometrist stated, “Patient has sufficient vision to perform driving tasks required to operate commercial vehicle.” Mr. McClanahan reported that he has driven straight trucks for 18 years, accumulating 216,000 miles, and tractor-trailer combinations for 18 years, accumulating 129,600 miles. He holds a Class AM CDL from Illinois. His driving record for the last 3 years shows no crashes and no convictions for moving violations in a CMV.

Mark Mitchell

Mr. Mitchell, 54, has had macular telangiectasia in his left eye since 2006. The visual acuity in his right eye is 20/20, and in his left eye, 20/50. Following an examination in 2016, his optometrist stated, “In my opinion Mr. Mitchell has sufficient vision to perform the driving tasks required to operate a commercial vehicle.” Mr. Mitchell reported that he has driven straight trucks for 15 years, accumulating 450,000 miles. He holds a chauffer's license from Michigan. His driving record for the last 3 years shows no crashes and no convictions for moving violations in a CMV.

Joel E. Nundahl

Mr. Nundahl, 62, has had amblyopia in his right eye since childhood. The visual acuity in his right eye is 20/50, and in his left eye, 20/20. Following an examination in 2016, his optometrist stated, “In my medical opinion Mr. Joel Nundahl is safe to perform the driving tasks required to operate a commercial vehicle.” Mr. Nundahl reported that he has driven tractor-trailer combinations for 39 years, accumulating 4.29 million miles. He holds a Class A CDL from Minnesota. His driving record for the last 3 years shows no crashes and no convictions for moving violations in a CMV.

Kent A. Perry

Mr. Perry, 56, has had amblyopia in his left eye since childhood. The visual acuity in his right eye is 20/40, and in his left eye, hand motion. Following an examination in 2015, his optometrist stated, “I believe that Mr. Perry now has sufficient vision following his cataract surgery to operate a commercial vehicle.” Mr. Perry reported that he has driven straight trucks for 31 years, accumulating 310,000 miles. He holds an operator's license from Wyoming. His driving record for the last 3 years shows no crashes and no convictions for moving violations in a CMV.

Richard C. Powers

Mr. Powers, 36, has had amblyopia in his left eye since childhood. The visual acuity in his right eye is 20/20, and in his left eye, 20/80. Following an examination in 2015, his optometrist stated, “From a visual standpoint, he is sufficient to operate a commercial vehicle.” Mr. Powers reported that he has driven straight trucks for 2 years, accumulating 160,000 miles, and tractor-trailer combinations for 8 years, accumulating 800,000 miles. He holds a Class A CDL from Texas. His driving record for the last 3 years shows no crashes and one conviction for a moving violation in a CMV; he was speeding 11-15 mph over the speed limit.

Mario A. Quezada

Mr. Quezada, 60, has had amblyopia in his right eye since birth. The visual acuity in his right eye is 20/400, and in his left eye, 20/20. Following an examination in 2015, his optometrist stated, “I certify that Mr. Quezada has sufficient vision to perform the driving tasks required to operate a commercial vehicle.” Mr. Quezada reported that he has driven tractor-trailer combinations for 27 years, accumulating 1.89 million miles. He holds a Class A CDL from Texas. His driving record for the last 3 years shows no crashes and one conviction for a moving violation in a CMV; he made an improper left turn from the wrong lane at an intersection.

Guadalupe Reyes

Mr. Reyes, 47, has had amblyopia in his left eye since childhood. The visual acuity in his right eye is 20/20, and in his left eye, 20/80. Following an examination in 2015, his ophthalmologist stated, “Mr. Reyes has demonstrated his ability to differentiate colors as seen on traffic signals, and it is of my opinion that Mr. Reyes has sufficient vision to perform the driving tasks required to operate a commercial vehicle.” Mr. Reyes reported that he has driven straight trucks for 23 years, accumulating 1.5 million miles. He holds a Class A CDL from Florida. His driving record for the last 3 years shows no crashes and no convictions for moving violations in a CMV.

J.B. Rodriguez Mata

Mr. Rodriguez Mata, 52, has had amblyopia in his left eye since childhood. The visual acuity in his right eye is 20/20, and in his left eye, 20/400. Following an examination in 2016, his optometrist stated, “In my medical opinion, patient J. Bernardo Rodriguez . . . has sufficient vision to perform the driving tasks required to operate a commercial vehicle.” Mr. Rodriguez Mata reported that he has driven straight trucks for 15 years, accumulating 2.4 million miles. He holds a Class A CDL from Texas. His driving record for the last 3 years shows no crashes and no convictions for moving violations in a CMV.

Joseph Sais

Mr. Sais, 38, has had refractive amblyopia in his left eye since childhood. The visual acuity in his right eye is 20/20, and in his left eye, 20/400. Following an examination in 2015, his optometrist stated, “I examined Mr. Joseph Saiz (DOB: 05/03/1977) on 11/11/2015 and found his visual finding in the right eye to meet or surpass the criteria to drive a commercial motor vehicle.” Mr. Sais reported that he has driven straight trucks for 7 years, accumulating 3,500 miles, and tractor-trailer combinations for 7 years, accumulating 3,500 miles. He holds a Class A CDL from New Mexico. His driving record for the last 3 years shows no crashes and no convictions for moving violations in a CMV.

John M. Sexton

Mr. Sexton, 50, has had refractive amblyopia in his left eye since childhood. The visual acuity in his right eye is 20/20, and in his left eye, hand motion. Following an examination in 2015, his optometrist stated, “Although OS has decreased acuity from a lifelong [sic] condition of refractive amblyopia, I feel that John has sufficient vision to perform the driving tasks required to operate a commercial vehicle as he has fully adapted to the condition.” Mr. Sexton reported that he has driven straight trucks for 5 years accumulating 25,000 miles, and tractor-trailer combinations for 31 years, accumulating 3.2 million miles. He holds a Class CA CDL from California. His driving record for the last 3 years shows no crashes and no convictions for moving violations in a CMV.

Blaine R. Sherfinski

Mr. Sherfinski, 60, has had amblyopia in his right eye since childhood. The visual acuity in his right eye is 20/600, and in his left eye, 20/20. Following an examination in 2015, his optometrist stated, “It is my opinion that Mr. Sherfinski has sufficient vision to perform the driving tasks required for operating a commercial vehicle.” Mr. Sherfinski reported that he has driven buses for 3 years, accumulating 45,000 miles. He holds a Class B CDL from Washington. His driving record for the last 3 years shows no crashes and no convictions for moving violations in a CMV.

Chad M. Smith

Mr. Smith, 34, has had amblyopia in his left eye since birth. The visual acuity in his right eye is 20/20, and in his left eye, 20/200. Following an examination in 2015, his optometrist stated, “In my medical opinion . . . Chad has sufficient vision to perform the driving tasks required to operate a commercial vehicle.” Mr. Smith reported that he has driven straight trucks for 7 years, accumulating 24,500 miles, and tractor-trailer combinations for 2 years, accumulating 3,000 miles. He holds a Class A CDL from Iowa. His driving record for the last 3 years shows no crashes and no convictions for moving violations in a CMV.

Corey L. Spring

Mr. Spring, 43, has a macular scar in his left eye due to a traumatic incident in childhood. The visual acuity in his right eye is 20/20, and in his left eye, counting fingers. Following an examination in 2016, his optometrist stated, “Mr. Corey Spring . . . has good enough vision to operate a commercial vehicle & [sic] meets the VF's criteria of at least 120 * [sic] in each eye.” Mr. Spring reported that he has driven tractor-trailer combinations for 21 years, accumulating 3.15 million miles. He holds a Class A CDL from Arkansas. His driving record for the last 3 years shows no crashes and no convictions for moving violations in a CMV.

Leslie D. Wallace

Mr. Wallace, 50, has a retinal detachment in his right eye due to a traumatic incident in 2006. The visual acuity in his right eye is 20/400, and in his left eye, 20/20. Following an examination in 2015, his optometrist stated, “He doesn't have any problem with his color vision and he doesn't have any physical limitations or medical conditions . . . I see no reason to believe the he would have problem with commercial vehicles.” Mr. Wallace reported that he has driven straight trucks for 30 years, accumulating 600,000 miles, and tractor-trailer combinations for 30 years, accumulating 600,000 miles. He holds a Class A CDL from Missouri. His driving record for the last 3 years shows no crashes and no convictions for moving violations in a CMV.

James C. Wechsler

Mr. Wechsler, 45, has had refractive amblyopia in his right eye since childhood. The visual acuity in his right eye is 20/60, and in his left eye, 20/15. Following an examination in 2015, his optometrist stated, “It is my opinion that James's [sic] vision and visual deficiency is stable and he has more than sufficient vision to perform the driving tasks required to operate a commercial vehicle.” Mr. Wechsler reported that he has driven straight trucks for 26 years, accumulating 390,000 miles, and tractor-trailer combinations for 26 years, accumulating 2.21 million miles. He holds a Class A CDL from Oregon. His driving record for the last 3 years shows no crashes and no convictions for moving violations in a CMV.

Danny A. Wright

Danny A. Wright, 39, has optic nerve damage in his left eye due to a traumatic incident in childhood. The visual acuity in his right eye is 20/20, and in his left eye, 20/70. Following an examination in 2016, his optometrist stated, “In summation, it is my professional opinion that Danny should have sufficient vision to perform the driving tasks required to operate his commercial vehicle.” Mr. Wright reported that he has driven straight trucks for 17 years, accumulating 20,800 miles. He holds a chauffeur's license from Indiana. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2016-0028 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble as being available in the docket, go to http://www.regulations.gov and insert the docket number FMCSA-2016-0028 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: June 10, 2016.
Larry W. Minor,
Associate Administrator for Policy.

[FR Doc. 2016-14242 Filed 6-15-16; 8:45 am]

BILLING CODE 4910-EX-P